FEDERAL COMMUNICATIONS COMMISSION

Notice of Public Information Collection(s) Being Reviewed by the Federal Communications Commission

April 25, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 1, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0168.

Title: Section 43.43—Reports of Proposed Changes in Depreciation Rates.

Form No.: N/A.

Type of Review: Revision of a currently approved collection.

Respondents: Business or other for-profit.

Number of Respondents: 10.

Estimated Time Per Response: 4,000-6,000 hours.

Frequency of Response: Recordkeeping requirement, on occasion reporting requirement.

Total Annual Burden: 40,000 hours.

Total Annual Cost: N/A.

Needs and Uses: In Report and Order, CC Docket No. 98-91, the Commission streamlined its depreciation prescription process by permitting summary filings and eliminating the prescription of depreciation rates for incumbent LECs, expanding the prescribed range for the digital switching plant account, and eliminating the theoretical reserve study requirement for mid-sized LECs. The Commission also established a waiver process whereby price cap incumbent LECs can free themselves of depreciation regulation. Also, see the Further Notice of Proposed Rulemaking in CC Docket No. 98-137 for additional proposals soliciting comment to further reduce burden placed on price cap ILECs.

OMB Control No.: 3060-0395.

Title: The ARMIS USOA Report; The ARMIS Service Quality Report; and the ARMIS Infrastructure Report.

Report No.: FCC Reports 43-02, 43-05, and 43-07.

Type of Review: Revision of a currently approved collection.

Respondents: Business or other for-profit.

Number of Respondents: 50.

Estimated Time Per Response: 5.7 hours to 550 hours.

Frequency of Response: Recordkeeping requirement, on occasion and annual reporting requirements.

Total Annual Burden: 29,366 hours.

Total Annual Cost: N/A.

Needs and Uses: The USOA Report provides the annual results of the carriers' activities for each account of the Uniform System of Accounts. The Service Quality Report provides service quality information in the areas of interexchange access service, installation and repair intervals, local service installation and repair intervals, trunk blockage, and total switch downtime for price cap companies. The Infrastructure Report provides switch deployment and capabilities data. The Commission modified the requirements for FCC Report 43-02 in CC Docket 99-253, Report and Order. FCC Reports 43-05 and 43-07 remain unchanged.

Federal Communications Commission.
Magalie Roman Salas,
Secretary.

[FR Doc. 00-10890 Filed 5-1-00; 8:45 am]

BILLING CODE 6712-01-U